DEPARTMENT OF ENERGY

Federal Energy Regulatory Commission

Notice of Change in Docketing and Processing for Market-Based Rate Quarterly Transaction Reports

April 18, 2000.

Take notice that effective immediately the Federal Energy Regulatory Commission will consider all Quarterly Transaction Reports submitted by electric utilities with market-based rate authority to be informational in nature. This determination will result in the following listed modifications to the processing of these filings.

The Secretary will no longer issue a public notice of Quarterly Transaction Reports. The reports will continue to be available to the public through the Commission's Records Information System (RIMS). To permit logical and easy access to the filings in RIMS, rather than being assigned new docket numbers, these items will be assigned the same docket number as the underlying proceeding in which the Commission granted the market-based rate authority. To insure the proper identification by docket number of each filing, the filing party must prominently identify on the filing the docket number in which the Commission granted the market-based rate authority.

This notice is issued for the information and aid of all interested jurisdictional companies, the public and practitioners before the Commission as an explanation of the modified handling procedures for Quarterly Transaction Reports submitted by electric utilities with market-based rate authority. For further information, contact John Buckley at (202) 208-0275.

David P. Boergers,
Secretary.

[FR Doc. 00-10110 Filed 4-21-00; 8:45 am]

BILLING CODE 671-01-M